DEPARTMENT OF LABOR

Employment and Training Administration

[TA-W-64,526A]

North American Lighting, Inc., Salem, IL Plant, Including On-Site Leased Workers From Westaff, Manpower, and Salem Business Center, Salem, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 21, 2009, applicable to workers of North American Lighting, Inc., Salem, IL Plant, Salem, Illinois including on-site leased workers from Westaff, Manpower, and Select. The notice was published in the Federal Register on May 7, 2009 (74 FR 21406).

At the request of a company official, the Department reviewed the certification for workers of the subject firm. The workers are engaged in the production of exterior automotive lighting—signal lighting.

The company reports that it incorrectly identified Select as one of the three leasing agencies with workers working on-site at the Salem, Illinois location of North American Lighting, Salem IL Plant. Salem Business Center is the third leasing agency, not Select. Accordingly, the Department is amending the certification to remove Select as the leasing agency and replacing it with workers from Salem Business Center working on-site at the Salem, Illinois location of the subject firm.

The amended notice applicable to TA-W-64,526A is hereby issued as follows:

All workers of North American Lighting, Salem, IL Plant, Salem, Illinois, including on-site leased workers from Westaff, Manpower, and Salem Business Center, who became totally or partially separated from employment on or after November 21, 2007 through April 21, 2011, are eligible to apply for adjustment assistance under Section 223 of the Trade Act of 1974, and are also eligible to apply for alternative trade adjustment assistance under Section 246 of the Trade Act of 1974.

Signed at Washington, DC this 14th day of May 2009.
Linda G. Poole,
Certifying Officer, Division of Trade Adjustment Assistance.

[FR Doc. E9-14330 Filed 6-17-09; 8:45 am]

BILLING CODE 4510-FN-P